DEPARTMENT OF ENERGY

Federal Energy Regulatory Commission

18 CFR Part 35

[Docket No. RM99-2-000]

Regional Transmission Organizations

Issued July 20, 2000.

AGENCY: Federal Energy Regulatory Commission, DOE.

ACTION: Notice of guidance for processing Order No. 2000 Filings.

SUMMARY: The Federal Energy Regulatory Commission (Commission) is establishing and clarifying procedures regarding the filings related to the formation of Regional Transmission Organizations, as required by 18 CFR 35.34(c) and 35.34(h). These regulations were adopted in the Commission's Order No. 2000. (65 FR 809).

FOR FURTHER INFORMATION CONTACT: Brian R. Gish, Federal Energy Regulatory Commission, 888 First Street, N.E., Washington, D.C. 20426, (202) 208-0996.

SUPPLEMENTARY INFORMATION:

Notice of Guidance for Processing Order No. 2000 Filings

In Order No. 2000,¹ the Commission issued regulations requiring all transmission-owning public utilities to make certain filings.² This notice establishes and clarifies procedures related to those filings.

¹ Regional Transmission Organizations, Order No. 2000, 65 FR 809 (January 6, 2000), FERC Stats. and Regs. ¶ 31,089 (1999), order on reh'g, Order No. 2000-A, 65 FR 12,088 (March 8, 2000), FERC Stats. and Regs. ¶ 31,092 (2000).

² 18 C.F.R. 35.34.

Timing of Filings

The regulations establish two deadlines for the required filings. Section 35.34(c) sets forth the general rule that filings are due by October 15, 2000, and section 35.34(h) establishes January 15, 2001 as the deadline for public utilities already participating in approved transmission entities.³ Attached as an Appendix to this Notice is a list of the public utilities that the Commission deems to be within section 35.34(h) with a January 15, 2001 filing deadline. All other transmission-owning public utilities are subject to the October 15, 2000 deadline. Of course, any public utility may file before its deadline. In addition, transmission-owning non-public utilities who wish to voluntarily establish RTOs or join other RTO proposals along with public utilities may also voluntarily make filings on or before these deadlines.

³ Because October 15, 2000 falls on a Sunday, and January 15, 2001 falls on a holiday, the filings are due by close of business on October 16, 2000, and January 16, 2001, respectively. See 18 C.F.R. § 385.2007(a)(2).

Docketing of Filings

Each filing made in compliance with Order No. 2000, whether it is a proposal to participate in an RTO or an alternative filing, will receive a new docket number designation. The Commission has established the new “RT” prefix for docket numbers that will be assigned to any filing made in compliance with Order No. 2000.

Filing Requirements

Unless specified differently in this paragraph, the Commission's Rules of Practice and Procedure at 18 C.F.R. Part 385 are applicable. An original and fourteen copies of each compliance filing must be filed with the Commission. For each public utility making a compliance filing, the filing must contain the identity of the utility and a designation of person to receive service (see 18 C.F.R. § 385.203(b)), and be signed by an appropriate person representing the utility (see 18 C.F.R. § 385.2005(a)). The filing must be served on the State commission or commissions that have jurisdiction over the utility filer, and any other State commission in a state that might be affected by the filing. In addition, service should be made on any person or entity likely to be significantly affected by the filing (e.g., current transmission customers of the utilities comprising the proposed RTO). A certificate of service listing those served must be included (see 18 C.F.R. 385.2010).

In addition to filing paper copies, the Commission encourages the filing of RTO compliance filings electronically, either on computer diskette or via Internet E-Mail. Such filings may be filed in the following formats: WordPerfect 8.0 or lower version, MS Word Office 97 or lower version, or ASCII format.

For diskette filing, include the following information on the diskette label: Order No. 2000 compliance filing; the name of the filing entity; the software and version used to create the file; and the name and telephone number of a contact person.

For Internet E-Mail submittal, filings should be submitted to rto@ferc.fed.us in the following format. On the subject line, specify Order No. 2000 compliance filing. In the body of the E-Mail message, include the name of the filing entity; the software and version used to create the file, and the name and telephone number of the contact person. Attach the filing to the E-Mail in one of the formats specified above. The Commission will send an automatic acknowledgment to the sender's E-Mail address upon receipt. Questions on electronic filing should be directed to Brooks Carter at 202-501-8145, E-Mail address brooks.carter@ferc.fed.us.

Filers should take note that, until the Commission amends its rules and regulations, the paper copy of the filing remains the official copy of the document submitted. Therefore, any discrepancies between the paper filing and the electronic filing or the diskette will be resolved by reference to the paper filing.

Commenting on Filings

A public notice will be issued for all compliance filings. The notice will establish a comment period of approximately 30 days for all interested persons to comment on each filing.

Joint Filings

The Commission reminds public utilities that the regulations allow for compliance filings to be made individually or jointly with other entities. Thus, where two or more public utilities are proposing to participate in the same RTO, the Commission encourages one joint filing. In the case of joint filings, it should be made clear which entities are participating in that filing. There must be separate representatives designated and separate authorizing signatures for any public utility for which a joint filing represents its required compliance filing. For approved transmission institutions, the transmission institution (e.g., an approved ISO) may make the filing on behalf of the member transmission owners, but each public utility transmission owning member must provide separate authorizing signatures.

Filings Containing Milestones For Finalization

In Order No. 2000, the Commission recognized that some elements of an RTO proposal may be more difficult to fully implement than others. For example, with respect to function 7 (planning and expansion) and function 8 (interregional coordination), the regulations permit an extension beyond initial operation for full implementation of these functions. In these types of instances, where the Commission has adopted a period of implementation beyond the date of initial operation, we remind filers that they must provide an explanation of their plans for compliance, including dates of anticipated implementation.

Format For Filing

To make reviewing filings more efficient, we request that filings proposing an RTO contain an executive summary limited to no more than five pages. We also request that the filings address each of the required characteristics and functions in the order set forth in the regulations, followed by the support for any additional Federal Power Act sections 203 and 205 filings required to implement the RTO proposal. We recognize that there may be overlap in the discussions of the characteristics and functions, since proposals may have to support various elements in relation to how those elements allow the RTO to carry out others, e.g., one measure of appropriate scope and configuration is how well the RTO can perform congestion management. Thus, to the extent it is necessary to discuss more than one characteristic or function together, we request that an identifying cross-reference be used so that the reader can easily find the discussion of a particular characteristic or function of interest.

Filings by Small Entities

The Commission reminds public utilities that have limited transmission facilities and that have previously been granted waiver of some or all of the requirements of Order Nos. 888 or 889, that an abbreviated filing is acceptable.⁴ The Commission does not wish to burden these small entities with extensive filings, but will find it useful to know the status of all transmission-owning public utilities with respect to regional participation.

⁴ See Order No. 2000-A, FERC Stats. & Regs. at 31,392-93.

By direction of the Commission.
David P. Boergers,
Secretary.

Appendix—Public Utilities Required to File on or before January 15, 2001

California Independent System Operator (ISO)

Pacific Gas and Electric Company

San Diego Gas & Electric Company

Southern California Edison Company

ISO New England, Inc.

Bangor Hydro-Electric Company

Boston Edison Company

Cambridge Electric Light Company

Central Maine Power Company

Central Vermont Public Service Corporation

Commonwealth Electric Company

Fitchburg Gas & Electric Light Company

Green Mountain Power Corporation

Montaup Electric Company

New England Power Company

Connecticut Light & Power Company

Western Massachusetts Electric Company

Holyoke Water Power Company

Holyoke Power and Electric Company

Public Service Company of New Hampshire

North Atlantic Energy Corporation

United Illuminating Company

Vermont Electric Power Company

Midwest ISO

Central Illinois Public Service Company

Cincinnati Gas & Electric Company

Commonwealth Edison Company

Commonwealth Edison Company of Indiana

Illinois Power Company

Kentucky Utilities Company

Louisville Gas & Electric Company

PSI Energy, Inc.

Union Electric Company

Wisconsin Electric Power Company

New York ISO

Central Hudson Gas & Electric Corporation

Consolidated Edison Company of New York, Inc.

New York State Electric & Gas Corporation

Niagara Mohawk Power Corporation

Orange & Rockland Utilities, Inc.

Rochester Gas & Electric Corporation

PJM Interconnection, LLC

Atlantic City Electric Company

Baltimore Gas and Electric Company

Delmarva Power & Light Company

Jersey Central Power & Light Company

Metropolitan Edison Company

Pennsylvania Electric Company

Pennsylvania Power & Light Company

Potomac Electric Power Company

Public Service Electric & Gas Company

Alliance Companies

Appalachian Power Company

Columbus Southern Power Company

Indiana Michigan Power Company

Kanawha Valley Power Company

Kentucky Power Company

Kingsport Power Company

Ohio Power Company

Wheeling Power Company

Consumers Energy Company

Detroit Edison Company

Cleveland Electric Illuminating Company

Ohio Edison Company

Pennsylvania Power Company

Toledo Edison Company

Virginia Electric and Power Company

[FR Doc. 00-18874 Filed 7-25-00; 8:45 am]

BILLING CODE 6717-01-P